DEPARTMENT OF HOMELAND SECURITY

Federal Emergency Management Agency

44 CFR Part 65

[Docket ID FEMA-2010-0003; Internal Agency Docket No. FEMA-B-1107]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Deputy Federal Insurance and Mitigation Administrator reconsider the changes. The modified BFEs may be changed during the 90-day period.

ADDRESSES: The modified BFEs for each community are available for inspection at the office of the Chief Executive Officer of each community. The respective addresses are listed in the table below.

FOR FURTHER INFORMATION CONTACT: Kevin C. Long, Acting Chief, Engineering Management Branch, Mitigation Directorate, Federal Emergency Management Agency, 500 C Street, SW., Washington, DC 20472, (202) 646-2820, or (e-mail) kevin.long@dhs.gov.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required either to adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own or pursuant to policies established by other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Alabama: Montgomery | City of Montgomery (10-04-0501P) | January 5, 2010, January 12, 2010, Montgomery Advertiser | The Honorable Todd Strange, Mayor, City of Montgomery, 103 North Perry Street, Montgomery, AL 36104 | December 28, 2009 | 010174
Colorado:
Larimer | City of Loveland (09-08-0734P) | January 15, 2010, January 22, 2010, Daily Reporter-Herald | The Honorable Cecil Gutierrez, Mayor, City of Loveland, 500 East 3rd Street, Suite 330, Loveland, CO 80537 | May 24, 2010 | 080103
Montrose | Unincorporated areas of Montrose County (09-08-0799P) | December 3, 2009, December 10, 2009, Montrose Daily Press | The Honorable David White, Chairman, Montrose County Board of Commissioners, 161 South Townsend Avenue, Montrose, CO 81401 | April 9, 2010 | 080124
Summit | Town of Breckenridge (09-08-0933P) | January 29, 2010, February 5, 2010, Summit County Journal | The Honorable John Warner, Mayor, Town of Breckenridge, 150 Ski Hill Road, Breckenridge, CO 80424 | June 7, 2010 | 080172
Florida:
Hillsborough | Unincorporated areas of Hillsborough County (09-04-6115P) | January 14, 2010, January 21, 2010, The Tampa Tribune | Ms. Patricia G. Bean, County Administrator, Hillsborough, County, 601 East Kennedy Boulevard, 26th Floor, Tampa, FL 33602 | May 21, 2010 | 120112
Orange | Unincorporated areas of Orange County (09-04-6043P) | January 14, 2010, January 21, 2010, Orlando Weekly | The Honorable Richard T. Crotty, Mayor, Orange County Board of, Commissioners, 4200 South John Young Parkway, Orlando, FL 32839 | May 21, 2010 | 120179
Pinellas | City of Gulfport (09-04-6868P) | January 29, 2010, February 5, 2010, St. Petersburg Times | The Honorable Mike Yakes, Mayor, City of Gulfport, 2401 53rd Street South, Gulfport, FL 33707 | January 20, 2010 | 125108
Pinellas | Unincorporated areas of Pinellas County (09-04-6868P) | January 29, 2010, February 5, 2010, St. Petersburg Times | The Honorable Karen Williams Seel, Chairman, Pinellas County Board of Commissioners, 315 Court Street, Clearwater, FL 33756 | January 20, 2010 | 125139
Georgia:
Cobb | City of Marietta (09-04-6328P) | January 8, 2010, January 15, 2010, Marietta Daily Journal | The Honorable William B. Dunaway, Mayor, City of Marietta, P.O. Box 609, Marietta, GA 30061 | February 2, 2010 | 130226
Cobb | Unincorporated areas of Cobb County (09-04-6328P) | January 8, 2010, January 15, 2010, Marietta Daily Journal | The Honorable Samuel S. Olens, Chariman, Cobb County Board of Commissioners, 100 Cherokee Street, Marietta, GA 30090 | February 2, 2010 | 130052
Forsyth | City of Cumming (09-04-5443P) | December 30, 2009, January 6, 2010, Forsyth County News | The Honorable Henry Ford Gravitt, Mayor, City of Cumming, 100 Main Street, Cumming, GA 30040 | May 6, 2010 | 130236
Kansas: Johnson | City of Lenexa (09-07-1009P) | January 20, 2010, January 27, 2010, The Johnson County Sun | The Honorable Michael Boehm, Mayor, City of Lenexa, 12350 West 87th Street Parkway, Lenexa, KS 66215 | January 12, 2010 | 200168
Kentucky: Louisville-Jefferson County Metropolitan Government | Louisville-Jefferson County Metropolitan Government (10-04-0314P) | January 15, 2010, January 22, 2010, The Courier-Journal | The Honorable Jerry E. Abramson, Mayor, Louisville-Jefferson County Metropolitan Government, 527 West Jefferson Street, Louisville, KY 40202 | May 24, 2010 | 210120
Mississippi:
Hinds | City of Jackson (09-04-5350P) | January 15, 2010, January 22, 2010, The Clarion-Ledger | The Honorable Harvey Johnson, Mayor, City of Jackson, P.O. Box 17, Jackson, MS 39205 | December 31, 2009 | 280072
Missouri:
Jasper | City of Joplin (09-07-0562P) | January 15, 2010, January 22, 2010, The Joplin Globe | The Honorable Gary Shaw, Mayor, City of Joplin, 602 South Main Street, Joplin, MO 64801 | May 24, 2010 | 290183
Newton | Unincorporated areas of Newton County (09-07-0562P) | January 15, 2010, January 22, 2010, The Joplin Globe | The Honorable Jerry Carter, Presiding Commissioner, Newton County Commission, 101 South Wood Street, Neosho, MO 64850 | May 24, 2010 | 290820
New Mexico:
Bernalillo | City of Rio Rancho (09-06-1628P) | January 15, 2010, January 22, 2010, The Albuquerque Journal | The Honorable Thomas E. Swisstack, Mayor, City of Rio Rancho, 3200 Civic Center Circle Northeast, Rio Rancho, NM 87144 | May 24, 2010 | 350146
Bernalillo | Unincorporated areas of Bernalillo County (09-06-1628P) | January 15, 2010, January 22, 2010, The Albuquerque Journal | The Honorable Alan B. Armijo, Chairman, Bernalillo County Board, of Commissioners, 1 Civic Plaza Northwest, Albuquerque, NM 87102 | May 24, 2010 | 350001
North Carolina:
Forsyth | City of Winston-Salem (09-04-7422P) | January 5, 2010, January 12, 2010, Winston-Salem Journal | The Honorable Allen Joines, Mayor, City of Winston-Salem, P.O. Box 2511, Winston-Salem, NC 27102 | May 12, 2010 | 375360
McDowell | Unincorporated areas of McDowell County (09-04-1274P) | January 22, 2010, January 29, 2010, The McDowell News | Mr. Charles Abernathy, County Manager, McDowell County, 60 East Court Street, Marion, NC 28752 | June 1, 2010 | 370148
Wake | City of Raleigh (09-04-4425P) | January 20, 2010, January 27, 2010, The News & Observer | The Honorable Charles Meeker, Mayor, City of Raleigh, P.O. Box 590, Raleigh, NC 27602 | May 27, 2010 | 370243
Oregon:
Clackamas | City of Lake Oswego (09-10-0738P) | January 7, 2010, January 14, 2010, Lake Oswego Review | The Honorable Jack Hoffman, Mayor, City of Lake Oswego, P.O. Box 369, Lake Oswego, OR 97034 | May 14, 2010 | 410018
Marion | City of Salem (09-10-0105P) | December 24, 2009, December 31, 2009, Statesman Journal | The Honorable Janet Taylor, Mayor, City of Salem, 555 Liberty Street Southeast, Salem, OR 97301 | April 30, 2010 | 410167
South Carolina: Lexington | Unincorporated areas of Lexington County (10-04-0151P) | January 14, 2010, January 21, 2010, The Lexington County Chronicle | The Honorable Debra B. Summers, Chair, Lexington County Council, 212 South Lake Drive, Lexington, SC 29072 | May 21, 2010 | 450129
Tennessee: Washington | City of Johnson City (09-04-5738P) | January 14, 2010, January 21, 2010, Johnson City Press | Mr. M. Denis Peterson, City Manager, City of Johnson City, 601 East Main Street, Johnson City, TN 37601 | May 21, 2010 | 475432
Texas:
Bexar | City of San Antonio (08-06-1091P) | January 15, 2010, January 22, 2010, San Antonio Express-News | The Honorable Julian Castro, Mayor, City of San Antonio, P.O. Box 839966, San Antonio, TX 78283 | May 24, 2010 | 480045
Denton | City of Lewisville (09-06-2230P) | January 13, 2010, January 20, 2010, Lewisville Leader | The Honorable Dean Ueckert, Mayor, City of Lewisville, P.O. Box 299002, Lewisville, TX 75029 | May 20, 2010 | 480195
Harris | City of Houston (09-06-2519P) | January 14, 2010, January 21, 2010, Houston Chronicle | The Honorable Annise D. Parker, Mayor, City of Houston, P.O. Box 1562, Houston, TX 77251 | December 31, 2009 | 480296
Harris | Unincorporated areas of Harris County (09-06-2519P) | January 14, 2010, January 21, 2010, Houston Chronicle | The Honorable Edward J. Emmett, Harris County Judge, 1001 Preston Street, Suite 911, Houston, TX 77002 | December 31, 2009 | 480287
Travis | City of Pflugerville (09-06-2902P) | January 14, 2010, January 21, 2010, Pflugerville Pflag | The Honorable Jeff Coleman, Mayor, City of Pflugerville, P.O. Box 589, Pflugerville, TX 78691 | December 31, 2009 | 481028
Virginia: City of Lynchburg | City of Lynchburg (09-03-1318P) | January 15, 2010, January 22, 2010, News & Advance | The Honorable Joan F. Foster, Mayor, City of Lynchburg, 900 Church Street, Lynchburg, VA 24504 | December 31, 2009 | 510093

(Catalog of Federal Domestic Assistance No. 97.022, “Flood Insurance.”)

Dated: April 30, 2010.
Sandra K. Knight,
Deputy Federal Insurance and Mitigation Administrator, Mitigation, Department of Homeland Security, Federal Emergency Management Agency.

[FR Doc. 2010-12479 Filed 5-24-10; 8:45 am]

BILLING CODE 9110-12-P